DEPARTMENT OF ENERGY

Federal Energy Regulatory Commission

Combined Notice of Filings #1

Take notice that the Commission received the following exempt wholesale generator filings:

Docket Numbers: EG24-178-000.

Applicants: Gransolar Texas One, LLC.

Description: Gransolar Texas One, LLC submits Notice of Self-Certification of Exempt Wholesale Generator Status.

Filed Date: 5/15/24.

Accession Number: 20240515-5023.

Comment Date: 5 p.m. ET 6/5/24.

Docket Numbers: EG24-179-000.

Applicants: BT Jungmann, LLC.

Description: BT Jungmann, LLC submits Notice of Self-Certification of Exempt Wholesale Generator Status.

Filed Date: 5/15/24.

Accession Number: 20240515-5025.

Comment Date: 5 p.m. ET 6/5/24.

Docket Numbers: EG24-180-000.

Applicants: Desert Quartzite, LLC.

Description: Desert Quartzite, LLC submits Notice of Self-Certification of Exempt Wholesale Generator Status.

Filed Date: 5/15/24.

Accession Number: 20240515-5050.

Comment Date: 5 p.m. ET 6/5/24.

Take notice that the Commission received the following electric rate filings:

Docket Numbers: ER24-1656-000; ER24-1657-000.

Applicants: McNair Creek Hydro Limited Partnership, Furry Creek Power Ltd.

Description: Second Supplement to 03/29/2024, Furry Creek Power Ltd., et al., tariff filing.

Filed Date: 5/10/24.

Accession Number: 20240510-5240.

Comment Date: 5 p.m. ET 5/31/24.

Docket Numbers: ER24-2014-000.

Applicants: Western Interconnect LLC.

Description: Tariff Amendment: Notice of Cancellation of OATT to be effective 5/16/2024.

Filed Date: 5/15/24.

Accession Number: 20240515-5024.

Comment Date: 5 p.m. ET 6/5/24.

Docket Numbers: ER24-2015-000.

Applicants: New York Independent System Operator, Inc.

Description: 205(d) Rate Filing: NYISO 205: Market Revenue Offset for ICAP Demand Curves to be effective 7/15/2024.

Filed Date: 5/15/24.

Accession Number: 20240515-5027.

Comment Date: 5 p.m. ET 6/5/24.

Docket Numbers: ER24-2016-000.

Applicants: MATL LLP.

Description: Compliance filing: Order 2023 Compliance Filing (RM22-14) to be effective 12/31/9998.

Filed Date: 5/15/24.

Accession Number: 20240515-5028.

Comment Date: 5 p.m. ET 6/5/24.

Docket Numbers: ER24-2017-000.

Applicants: PacifiCorp.

Description: Compliance filing: Order Nos. 2023, 2023-A Compliance Filing to be effective 11/2/2024.

Filed Date: 5/15/24.

Accession Number: 20240515-5039.

Comment Date: 5 p.m. ET 6/5/24.

Docket Numbers: ER24-2018-000.

Applicants: Louisville Gas and Electric Company.

Description: Compliance filing: FERC Order No. 2023 Compliance Filing to be effective 8/1/2024.

Filed Date: 5/15/24.

Accession Number: 20240515-5054.

Comment Date: 5 p.m. ET 6/5/24.

Docket Numbers: ER24-2019-000.

Applicants: Midcontinent Independent System Operator, Inc.

Description: 205(d) Rate Filing: 2024-05-15_SA 4287 City of Columbia, MO-Boone Stephens Solar GIA (J1191) to be effective 5/6/2024.

Filed Date: 5/15/24.

Accession Number: 20240515-5064.

Comment Date: 5 p.m. ET 6/5/24.

Docket Numbers: ER24-2020-000.

Applicants: Tri-State Generation and Transmission Association, Inc.

Description: 205(d) Rate Filing: Initial Filing of Service Agreement FERC No. 112 to be effective 5/1/2024.

Filed Date: 5/15/24.

Accession Number: 20240515-5075.

Comment Date: 5 p.m. ET 6/5/24.

Docket Numbers: ER24-2021-000.

Applicants: Southwest Power Pool, Inc.

Description: 205(d) Rate Filing: 4266 Beeline Solar Energy GIA to be effective 5/13/2024.

Filed Date: 5/15/24.

Accession Number: 20240515-5079.

Comment Date: 5 p.m. ET 6/5/24.

Docket Numbers: ER24-2022-000.

Applicants: Black Hills Power, Inc.

Description: Compliance filing: Order 2023 Joint Open Access Transmission Tariff Revisions to be effective 8/1/2024.

Filed Date: 5/15/24.

Accession Number: 20240515-5090.

Comment Date: 5 p.m. ET 6/5/24.

Docket Numbers: ER24-2023-000.

Applicants: Black Hills Colorado Electric, LLC.

Description: Compliance filing: Order 2023 Open Access Transmission Tariff Revisions to be effective 9/1/2024.

Filed Date: 5/15/24.

Accession Number: 20240515-5095.

Comment Date: 5 p.m. ET 6/5/24.

Docket Numbers: ER24-2024-000.

Applicants: Arizona Public Service Company.

Description: Tariff Amendment: Rate Schedule No. 261—Notice of Cancellation to be effective 7/15/2024.

Filed Date: 5/15/24.

Accession Number: 20240515-5101.

Comment Date: 5 p.m. ET 6/5/24.

Docket Numbers: ER24-2025-000.

Applicants: Wilderness Line Holdings, LLC.

Description: Compliance filing: Order No. 2023 Compliance Filing to be effective 5/15/2024.

Filed Date: 5/15/24.

Accession Number: 20240515-5113.

Comment Date: 5 p.m. ET 6/5/24.

Take notice that the Commission received the following electric securities filings:

Docket Numbers: ES24-38-000.

Applicants: LS Power Grid California, LLC.

Description: Application Under Section 204 of the Federal Power Act for Authorization to Issue Securities of LS Power Grid California, LLC.

Filed Date: 5/14/24.

Accession Number: 20240514-5181.

Comment Date: 5 p.m. ET 6/4/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 15, 2024.
Debbie-Anne A. Reese,
Acting Secretary.

[FR Doc. 2024-11155 Filed 5-20-24; 8:45 am]

BILLING CODE 6717-01-P